DEPARTMENT OF TRANSPORTATION

Federal Railroad Administration

[Docket Number FRA-2015-0082]

Petition for Waiver of Compliance

In accordance with part 211 of Title 49 of the Code of Federal Regulations (CFR), this document provides the public notice that by a document dated July 27, 2015, the Norfolk Southern Corporation (NS) has petitioned the Federal Railroad Administration (FRA) for a waiver of compliance from certain provisions of the Federal railroad safety regulations contained at 49 CFR part 236, Applicability, minimum requirements, and penalties. FRA assigned the petition Docket Number FRA-2015-0082.

This request is for relief from the mechanical locking requirements of 49 CFR 236.312, Movable bridge, interlocking of signal appliances with bridge devices, to the extent that NS not be required to install bridge lockings on either end of the lift bridge, Control Point (CP) 509, located at Milepost 509.9 on the Chicago Line, Chicago, IL.

The design of the CP 509 bridge dates to its commissioning in 1911 and features circuitry and locking mechanisms installed in 1930. The design called for surface detection of the rails and circuit controllers on all four corners of the movable span to detect when the movable span is properly seated. Unlike the test requirements of 49 CFR 236.312, which state that the locking member must be within one inch of proper alignment before a permissive signal governing movements can be lined, NS adjusts the span circuit controllers to three-eighths of an inch before a permissive signal can be lined. The regulation calls for a single point of mechanical locking on each end of the movable span, but the NS design has four points of detection to ensure the entire movable span is properly seated.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 26, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC on September 1, 2015.
Ron Hynes,
Director, Office of Technical Oversight.

[FR Doc. 2015-22790 Filed 9-9-15; 8:45 am]

BILLING CODE 4910-06-P